MERIT SYSTEMS PROTECTION BOARD

Sunshine Act Notice

Notice: Pursuant to the Government in the Sunshine Act (5 U.S.C. 552(b)), notice is hereby given that the Merit Systems Protection Board will hold a partially closed meeting on Thursday, October 18, 2001, at 2 p.m., in the Board's conference room at 1615 M Street, NW., 6th Floor, Washington, DC 20419. In calling the meeting, the Board determined that Board business required its consideration of the agenda items on less than seven days' notice to that public; that no earlier notice of the meeting was practicable; that the public interest did not require consideration of the first agenda item in a meeting open to public interest did not require consideration of the first agenda item in a meeting open to public observation; and that the second agenda item could be considered in a closed meeting by authority of subsection (c)(10) of the “Government in the Sunshine Act” (5 U.S.C. 552b(c)(10)).

Matters Considered:

(1) Briefing of Board members on Senior Managers' retreat;

(2) Case processing issues.

Contact Person for Additional Information: Shannon McCarthy or Matthew Shannon, Office of the Clerk of the Board, (202) 653-7200.

Dated: October 15, 2001.
Robert E. Taylor,
Clerk of the Board.

[FR Doc. 01-26471 Filed 10-16-01; 3:14 pm]

BILLING CODE 7400-01-M